NATIONAL AERONAUTICS AND SPACE ADMINISTRATION

[Notice (06-004)]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council.

DATES: Wednesday, February 8, 2006, 2 p.m. to 5 p.m.; and Thursday, February 9, 2006, 8 a.m. to 4 p.m.

ADDRESSES: Ronald Reagan Building and International Trade Center, Hemisphere A Conference Room, 1300 Pennsylvania Avenue, NW., Washington, DC 20004.

FOR FURTHER INFORMATION CONTACT: Mr. Christopher Blackerby, Designated Federal Official, National Aeronautics and Space Administration, Washington, DC 20546, 202/358-4688.

SUPPLEMENTARY INFORMATION: The meeting will be open to the public up to the seating capacity of the room. The agenda for the meeting includes the following topics:

—Program Analysis and Evaluation Office Overview

—NASA Commercialization Overview

—Council Committee updates

It is imperative that the meeting be held on these dates to accommodate the scheduling priorities of the key participants.

Dated: January 17, 2006.
P. Diane Rausch,
Advisory Committee Management Officer, National Aeronautics and Space Administration.

[FR Doc. E6-871 Filed 1-24-06; 8:45 am]

BILLING CODE 7510-13-P